DEPARTMENT OF COMMERCE

International Trade Administration

[A-570-887]

Tetrahydrofurfuryl Alcohol From the People's Republic of China: Final Results of the Expedited Third Sunset Review of the Antidumping Duty Order

AGENCY: Enforcement and Compliance, International Trade Administration, Department of Commerce.

SUMMARY: As a result of this sunset review, the Department of Commerce (Commerce) finds that revocation of the antidumping duty (AD) order on tetrahydrofurfuryl alcohol (THFA) from the People's Republic of China (China) would be likely to lead to the continuation or recurrence of dumping at the levels indicated in the “Final Results of Review” section of this notice.

DATES: Applicable July 8, 2020.

FOR FURTHER INFORMATION CONTACT: Kate Sliney, AD/CVD Operations, Office III, Enforcement and Compliance, International Trade Administration, U.S. Department of Commerce, 1401 Constitution Avenue NW, Washington, DC 20230; telephone: (202) 482-2437.

SUPPLEMENTARY INFORMATION:

Background

On March 2, 2020, Commerce published the notice of initiation of the third sunset review of the Order ¹ on tetrahydrofurfuryl alcohol from China, pursuant to section 751(c)(2) of the Tariff Act of 1930, as amended (the Act).² On March 20, 2020, Commerce received a notice of intent to participate from Penn A Kem LLC (formerly, Penn Specialty Chemicals), a domestic interested party, within the deadline specified in 19 CFR 351.218(d)(1)(i).³

¹ See Antidumping Duty Order: Tetrahydrofurfuryl Alcohol from The People's Republic of China, 69 FR 47911 (August 6, 2004) (Order).

² See Initiation of Five-Year (Sunset) Reviews, 85 FR 12253 (March 2, 2020).

³ See Penn A Kem LLC's Letter, “Sunset Review (3rd Review) of the Antidumping Duty Order on Tetrahydrofurfuryl Alcohol from the People's Republic of China: Domestic Interested Party Notification of Intent to Participate,” dated March 20, 2020.

On March 30, 2020, Commerce received a complete substantive response from the domestic interested party within the 30-day deadline specified in 19 CFR 351.218(d)(3).⁴ No respondent interested party submitted a substantive response within the 50-day deadline. As a result, pursuant to section 751(c)(3)(B) of the Act and 19 CFR 351.218(e)(1)(ii)(C)(2), Commerce is conducting an expedited (120-day) sunset review of the Order.

⁴ See Penn A Kem LLC's Letter, “Sunset Review (3rd Review) of the Antidumping Duty Order on Tetrahydrofurfuryl Alcohol from the People's Republic of China: Domestic Interested Party Substantive Response to Notice of Initiation,” dated March 30, 2020.

Scope of the Order

The product covered by this Order is tetrahydrofurfuryl alcohol (THFA) from China; a primary alcohol, THFA is a clear, water white to pale yellow liquid. THFA is a member of the heterocyclic compounds known as furans and is miscible with water and soluble in many common organic solvents. THFA is currently classifiable in the Harmonized Tariff Schedules of the United States (HTSUS) under subheading 2932.13.00.00. Although the HTSUS subheadings are provided for convenience and for customs purposes, Commerce's written description of the merchandise subject to the Order is dispositive.

Analysis of Comments Received

All issues raised in this sunset review are addressed in the accompanying Issues and Decision Memorandum, which is hereby adopted by this notice.⁵ The Issues and Decision Memorandum is a public document and is on file electronically via Enforcement and Compliance's Antidumping and Countervailing Duty Centralized Electronic Service System (ACCESS). ACCESS is available to registered users at https://access.trade.gov. A list of topics discussed in the Issues and Decision Memorandum is included as an appendix to this notice. A complete version of the Issues and Decision Memorandum can be accessed at http://enforcement.trade.gov/frn/. The signed Issues and Decision Memorandum and the electronic version of the Issues and Decision Memorandum are identical in content.

⁵ See Memorandum, “Issues and Decision Memorandum for the Final Results of the Expedited Third Sunset Review of the Antidumping Duty Order on Tetrahydrofurfuryl Alcohol from the People's Republic of China,” dated concurrently with, and hereby adopted by, this notice (Issues and Decision Memorandum).

Final Results of Review

Pursuant to sections 751(c)(1) and 752(c)(1) and (3) of the Act, Commerce determines that revocation of the antidumping duty order on THFA from China would be likely to lead to the continuation or recurrence of dumping, and that the magnitude of the margin likely to prevail is up to 136.86 percent.

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752, and 777(i)(1) of the Act and 19 CFR 351.218.

Dated: June 29, 2020.
Jeffrey I. Kessler,
Assistant Secretary for Enforcement and Compliance.

Appendix

List of Topics Discussed in the Issues and Decision Memorandum

I. Summary

II. Background

III. Scope of the Order

IV. History of the Order

V. Legal Framework

VI. Discussion of the Issues

1. Likelihood of Continuation of Recurrence of Dumping

2. Magnitude of the Margin Likely to Prevail

VII. Final Results of Third Expedited Sunset Review

VIII. Recommendation

[FR Doc. 2020-14680 Filed 7-7-20; 8:45 am]

BILLING CODE 3510-DS-P